DEPARTMENT OF TRANSPORTATION

Federal Aviation Administration

14 CFR Part 39

[Docket No. 2003-NM-85-AD; Amendment 39-13818; AD 2004-20-13]

RIN 2120-AA64

Airworthiness Directives; Empresa Brasileira de Aeronautica S.A. (EMBRAER) Model EMB-135 and EMB-145 Series Airplanes

AGENCY: Federal Aviation Administration, DOT.

ACTION: Final rule.

SUMMARY: This amendment adopts a new airworthiness directive (AD), applicable to certain EMBRAER Model EMB-135 and EMB-145 series airplanes, that requires inspection of the housings of the main landing gear (MLG) leg strut bushings, and related investigative and corrective actions, and other specified actions. The actions specified by this AD are intended to prevent corrosion of the housings of the MLG leg strut bushings and consequent failure of the MLG. This action is intended to address the identified unsafe condition.

DATES: Effective November 17, 2004.

The incorporation by reference of a certain publication listed in the regulations is approved by the Director of the Federal Register as of November 17, 2004.

ADDRESSES: The service information referenced in this AD may be obtained from Empresa Brasileira de Aeronautica S.A. (EMBRAER), P.O. Box 343—CEP 12.225, Sao Jose dos Campos—SP, Brazil. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Dan Rodina, Aerospace Engineer; International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain EMBRAER Model EMB-135 and EMB-145 series airplanes was published as a supplemental notice of proposed rulemaking (NPRM) in the Federal Register on July 22, 2004 (69 FR 43777). That action proposed to require inspection of the housings of the main landing gear (MLG) leg strut bushings, related investigative and corrective actions, and other specified actions.

Comments

Interested persons have been afforded an opportunity to participate in the making of this amendment. No comments were submitted in response to the proposal or the FAA's determination of the cost to the public.

Conclusion

The FAA has determined that air safety and the public interest require the adoption of the rule as proposed.

Cost Impact

We estimate that 75 airplanes of U.S. registry will be affected by this proposed AD.

It will take approximately 14 work hours per airplane to accomplish the inspection of the bushing housings for corrosion, at an average labor rate of $65 per work hour. Based on these figures, the cost impact of the inspection on U.S. operators is estimated to be $68,250, or $910 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-20-13 Empresa Brasileira de Aeronautica S.A. (EMBRAER): Amendment 39-13818. Docket 2003-NM-85-AD.

Applicability: Model EMB-135 and EMB-145 series airplanes, certificated in any category, equipped with a main landing gear (MLG) leg strut having a part number (P/N) and serial number (S/N) listed in the table under the heading “Affected component” in paragraph 1.B., “Effectivity,” of EMBRAER Service Bulletin 145-32-0066, Change 03, dated April 19, 2004.

Compliance: Required as indicated, unless accomplished previously.

To prevent corrosion of the housings of the main landing gear (MLG) leg strut bushings and consequent failure of the MLG, accomplish the following:

Inspection and Investigative and Corrective Actions

(a) Within 5,500 flight hours after the effective date of this AD, perform a detailed inspection of the housings of the MLG leg strut bushings for corrosion per the Accomplishment Instructions of EMBRAER Service Bulletin 145-32-0066, Change 03, dated April 19, 2004.

(1) If no corrosion is found, before further flight, do all applicable actions in and per the Accomplishment Instructions of the service bulletin.

(2) If any corrosion is found, before further flight, do all applicable investigative and corrective actions in and per the Accomplishment Instructions of the service bulletin.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: EMBRAER Service Bulletin 145-32-0066, Change 03, dated April 19, 2004, refers to Embraer Liebherr Equipamentos do Brasil S.A. (ELEB) Service Bulletin 2309-2006-32-01, Revision 03, dated April 19, 2004, as an additional source of service information for the inspection and repair of the MLG leg strut bushings. The ELEB service bulletin is included within the EMBRAER service bulletin.

Inspections Accomplished per Previous Issue of Service Bulletin

(b) Inspections and related investigative and corrective actions, accomplished before the effective date of this AD per EMBRAER Service Bulletin 145-32-0066, dated January 8, 2002; Change 01, dated August 15, 2002; or Change 02, dated February 26, 2004; are considered acceptable for compliance with the corresponding action specified in this AD.

Alternative Methods of Compliance

(c) In accordance with 14 CFR 39.19, the Manager, International Branch, ANM-116, Transport Airplane Directorate, FAA, is authorized to approve alternative methods of compliance for this AD.

Incorporation by Reference

(d) Unless otherwise specified in this AD, the actions must be done in accordance with EMBRAER Service Bulletin 145-32-0066, Change 03, dated April 19, 2004. This incorporation by reference was approved by the Director of the Federal Register in accordance with 5 U.S.C. 552(a) and 1 CFR part 51. Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 3: The subject of this AD is addressed in Brazilian airworthiness directive 2002-12-01, effective January 6, 2003.

Effective Date

(e) This amendment becomes effective on November 17, 2004.

Issued in Renton, Washington, on September 30, 2004.
Kevin M. Mullin,
Acting Manager, Transport Airplane Directorate, Aircraft Certification Service.

[FR Doc. 04-22561 Filed 10-12-04; 8:45 am]

BILLING CODE 4910-13-P